DEPARTMENT OF HEALTH AND HUMAN SERVICES

[Document Identifier: OS-0945-0002]

Agency Information Collection Request; 60-Day Public Comment Request

AGENCY: Office of the Secretary, Office for Civil Rights (OCR), HHS.

ACTION: Notice.

SUMMARY: In compliance with the requirement of the Paperwork Reduction Act of 1995, the Office of the Secretary (OS), Office for Civil Rights (OCR), Department of Health and Human Services (HHS), is publishing the following summary of a proposed collection for public comment.

DATES: Comments on the ICR must be received on or before March 2, 2026.

ADDRESSES: When commenting, please reference the document identifier/OMB control number 0945-0002 and title of collection, “Civil Rights and Conscience Complaint and Health Information Privacy, Security, & Breach Notification Complaint”. To be assured consideration, comments and recommendations must be submitted in any one of the following ways:

• Electronically. You may send your comments electronically to OCRcomplaintformrevision@hhs.gov.

• By regular mail. You may mail written comments to the following address:

U.S. Department of Health and Human Services, Office for Civil Rights, Attention: Harold Henderson, 200 Independence Ave. SW, Suite 515F, Washington, DC 20201, Attention: OMB Control Number 0945-0002.

FOR FURTHER INFORMATION: To obtain copies of supporting material for the proposed collection(s) summarized in this notice, please email Harold Henderson at OCRcomplaintformrevision@hhs.gov.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Civil Rights and Conscience Complaint and Health Information Privacy, Security, and Breach Notification Complaint.

Type of Collection: Revision.

Abstract: The Office for Civil Rights (OCR) is proposing to revise OMB control number collection 0945-0002 that is expiring in December 2025, which includes two forms entitled: 1.) Health Information Privacy, Security, and Breach Notification Complaint; and 2.) Civil Rights and Conscience Complaint. This notice discusses proposed revisions to these complaint forms. The purpose of the forms is to allow OCR to continue to collect the minimum information needed from individuals filing complaints with OCR to form the basis for the initial processing of those complaints. The revisions omit certain questions to reduce the burden on the complainant, clarify terms, update statutory and regulatory authorities, and conform the forms to E.O. 14168 on “Defending Women from Gender Ideology Extremism and Restoring Biological Truth to the Federal Government” and the court order in Texas v. Becerra, No. 6:24-CV-211-JDK, 2024 WL 4490621, at *2 (E.D. Tex. Aug. 30, 2024) (staying nationwide the Section 1557 Final Rule definition of sex discrimination as including “sex characteristics, including intersex traits”; “pregnancy or related conditions”; “sexual orientation”; “gender identity”; and “sex stereotypes”).

The estimated burden follows:

Estimated Annualized Burden Table
Written forms/electronic forms | Type of respondent | Number of respondents | Number of responses per respondent | Average burden hours per response (hours) | Wage burden | Total burden hours
Civil Rights and Conscience Complaint | Individuals or households, Not-for-profit institutions | 15,468 | 1 | .75 | $22.43/hr | 11,601
Health Information Privacy, Security, & Breach Notification Complaint | Individuals or households, Not-for-profit institutions | 31,985 | 1 | .75 | $22.43/hr | 23,989
Total |  | 47,453 |  |  | $22.43/hr | 35,590

OCR estimates that the average time needed to complete either complaint form is 45 minutes (.75 hours), which has not increased since the forms were last revised. Respondents to the information collection include individuals or households, or organizations. Based on examination of actual complaint levels over the past two years, OCR projects that OCR will average 15,468 civil rights related complaints per year and 31,985 privacy related complaints per year.

Catherine Howard,
Paperwork Reduction Act Reports Clearance Officer, Office of the Secretary.

[FR Doc. 2025-24099 Filed 12-30-25; 8:45 am]

BILLING CODE 4153-01-P